ENVIRONMENTAL PROTECTION AGENCY

[FRL-10020-60-OW]

Notice of Public Meeting of the Environmental Financial Advisory Board

AGENCY: Environmental Protection Agency (EPA).

ACTION: Notice.

SUMMARY: The United States Environmental Protection Agency (EPA) announces a public meeting of the Environmental Financial Advisory Board (EFAB). The purpose of the meeting will be for the EFAB to provide workgroup updates on work products and workplans for charges accepted during the October 2020 meeting, receive a briefing on the Agency's response to recent EFAB reports, receive updates on EPA activities relating to environmental finance, and consider possible future advisory topics.

DATES: The meeting will be held on April 20 and 21, 2021 from 11 a.m. to 3 p.m. (Eastern Time) both days.

ADDRESSES: The meeting will be conducted via webcast and telephone. Interested persons must register in advance at the weblink below to access the meeting in the Registration for the Meeting section of this document.

FOR FURTHER INFORMATION CONTACT: Any member of the public who wants information about the meeting may contact Ed Chu, the Designated Federal Officer, via telephone/voice mail at (913) 551-7333 or email to efab@epa.gov. General information concerning the EFAB is available at https://www.epa.gov/waterfinancecenter/efab.

SUPPLEMENTARY INFORMATION:

Background: The EFAB is an EPA advisory committee chartered under the Federal Advisory Committee Act (FACA), 5 U.S.C. App. 2, to provide advice and recommendations to EPA on innovative approaches to funding environmental programs, projects, and activities. Administrative support for the EFAB is provided by the Water Infrastructure and Resiliency Finance Center within EPA's Office of Water. Pursuant to FACA and EPA policy, notice is hereby given that the EFAB will hold a virtual public meeting for the following purposes:

(1) Provide EFAB workgroup updates to the Board regarding work products and workplans related to the Opportunity Zones charge the Board accepted during its October 2020 meeting;

(2) Receive briefings from invited speakers from EPA and the Environmental Finance Center Network on environmental finance topics; and

(3) Discuss potential future EFAB projects including Stormwater Credit Trading, Environmental Risk and the Cost of Capital, Financing Small Manufacturer Pollution Prevention Project, and others.

Registration for the Meeting: Register for the meeting at https://www.epa.gov/waterfinancecenter/efab#meeting.

Availability of Meeting Materials: Meeting materials (including the meeting agenda and briefing materials) will be available on EPA's website at https://www.epa.gov/waterfinancecenter/efab.

Procedures for Providing Public Input: Public comment for consideration by EPA's federal advisory committees has a different purpose from public comment provided to EPA program offices. Therefore, the process for submitting comments to a federal advisory committee is different from the process used to submit comments to an EPA program office. Federal advisory committees provide independent advice to EPA. Members of the public can submit comments on matters being considered by the EFAB for consideration by members as they develop their advice and recommendations to EPA.

Oral Statements: In general, individuals or groups requesting an oral presentation at a virtual EFAB public meeting will be limited to three minutes each. Persons interested in providing oral statements at the April 2021 meeting should register in advance and provide notification as noted in the registration confirmation by April 12, 2021 to be placed on the list of registered speakers.

Written Statements: Written statements for the April 2021 meeting should be received by April 12, 2021 so that the information can be made available to the EFAB for its consideration prior to the meeting. Written statements should be sent via email to efab@epa.gov. Members of the public should be aware that their personal contact information, if included in any written comments, may be posted to the EFAB website. Copyrighted material will not be posted without explicit permission of the copyright holder.

Accessibility: For information on access or services for individuals with disabilities or to request accommodations for a disability, please register for the meeting and list any special requirements or accommodations needed on the registration form at least 10 business days prior to the meeting to allow as much time as possible to process your request.

Dated: March 1, 2021.
Andrew D. Sawyers,
Director, Office of Wastewater Management, Office of Water.

[FR Doc. 2021-04828 Filed 3-8-21; 8:45 am]

BILLING CODE 6560-50-P